DEPARMENT OF ENERGY

Federal Energy Regulatory Commission

Sunshine Act Meeting

February 25, 2004.

The following notice of meeting is published pursuant to section 3(a) of the Government in the Sunshine Act (Pub. L. 94-409), 5 U.S.C. 552b:

AGENCY HOLDING MEETING: Federal Energy Regulatory Commission.

DATE AND TIME: March 3, 2004, 10 a.m.

PLACE: Room 2C, 888 First Street, NE., Washington, DC 20426.

STATUS: Open.

MATTERS TO BE CONSIDERED: Agenda *Note—Items Listed on the Agenda May be Deleted Without Further Notice.

CONTACT PERSON FOR MORE INFORMATION: Magalie R. Salas, Secretary, telephone (202) 502-8400; for a recording listing items stricken from or added to the meeting, call (202) 502-8627.

This is a List of Matters To Be Considered by the Commission. It Does Not Include a Listing of All Papers Relevant to the Items on the Agenda; however, All Public Documents May Be Examined in the Reference and Information Center.

Administrative Agenda

A-1.

DOCKET# AD02-1, 000, Agency Administrative Matters

A-2.

DOCKET# AD02-7, 000, Customer Matters, Reliability, Security and Market Operations

A-3.

DOCKET# AD04-3, 000, Presentation by the Information Assessment Team

Markets, Tariffs and Rates—Electric

E-1.

DOCKET# RM02-1, 001, Standardization of Generator Interconnection Agreements and Procedures

E-2.

OMITTED

E-3.

OMITTED

E-4.

DOCKET# ER04-383, 000, Southern California Edison Company

OTHER#S ER04-384, 000, Southern California Edison Company

ER04-384, 001, Southern California Edison Company

ER04-385, 000, Southern California Edison Company

ER04-386, 000, Southern California Edison Company

E-5.

OMITTED

E-6.

OMITTED

E-7.

DOCKET# ER03-580, 000, Midwest Independent Transmission System Operator, Inc.

OTHER#S EL03-119, 000, Midwest Independent Transmission System Operator, Inc.

ER03-580, 001, Midwest Independent Transmission System Operator, Inc.

ER03-580, 002, Midwest Independent Transmission System Operator, Inc.

ER03-580, 003, Midwest Independent Transmission System Operator, Inc.

ER03-580, 004, Midwest Independent Transmission System Operator, Inc.

E-8.

OMITTED

E-9.

DOCKET# ER02-2458, 000, Midwest Independent Transmission System Operator, Inc.

OTHER#S ER02-2458, 001, Midwest Independent Transmission System Operator, Inc.

E-10.

OMITTED

E-11.

DOCKET# ER01-3034, 003, Duke Energy Oakland, LLC

E-12.

DOCKET# EL01-93, 008, Mirant Americas Energy Marketing, LP, Mirant New England, LLC, Mirant Kendall, LLC, and Mirant Canal, LLC v. ISO New England Inc.

E-13.

DOCKET# EL02-63, 002, Constellation Power Source, Inc. v. California Power Exchange Corporation

E-14.

OMITTED

E-15.

DOCKET# EL00-95, 081, San Diego Gas & Electric Company v. Sellers of Energy and Ancillary Services Into Markets Operated by the California Independent system Operator and the California Power Exchange

OTHER#S EL00-98, 069, Investigation of Practices of the California Independent System Operator Corporation and the California Power Exchange

E-16.

DOCKET# EL01-22, 003, Idaho Power Company

E-17.

OMITTED

E-18.

DOCKET# EL03-34, 001, Midwest Independent Transmission System Operator, Inc.

E-19.

DOCKET# EL03-223, 001, California Power Exchange Corporation

E-20.

DOCKET# ER03-1138, 001, Idaho Power Company

E-21.

DOCKET# ER03-458, 001, American Electric Power Service Corporation

E-22.

DOCKET# EL00-111, 007, Cities of Anaheim, Azusa, Banning, Colton, and Riverside, California v. California Independent System Operator Corporation

OTHER#S EL01-84, 003, Salt River Project Agricultural Improvement and Power District v. California Independent System Operator Corporation

ER01-607, 005, California Independent System Operator Corporation

E-23.

OMITTED

E-24.

DOCKET# EL03-40, 001, Wisconsin Public Service Corporation v. Midwest Independent Transmission System Operator, Inc.

E-25.

DOCKET# ER03-942, 002, California Independent System Operator Corporation

E-26.

DOCKET# ER93-465, 032, Florida Power & Light Company

OTHER#S OA96-39, 009, Florida Power & Light Company

ER96-417, 001, Florida Power & Light Company

ER96-1375, 002, Florida Power & Light Company

OA97-245, 002, Florida Power & Light Company

E-27.

OMITTED

E-28.

OMITTED

E-29.

DOCKET# EL04-33, 000, KES Kingsburg, L.P.

OTHER#S QF86-155, 004, KES Kingsburg, L.P.

E-30.

DOCKET# EL00-89, 000, Southern California Edison Company

OTHER#S EL00-89, 001, Southern California Edison Company

E-31.

OMITTED

E-32.

DOCKET# EL04-43, 000, Tenaska Power Services Co., v. Midwest Independent Transmission System Operator, Inc.

OTHER#S EL04-46, 000, Cargill Power Markets, LLC v. Midwest Independent Transmission System Operator, Inc.

E-33.

OMITTED

E-34.

DOCKET# EL04-31, 000, Quest Energy, L.L.C. v. The Detroit Edison Company

E-35.

DOCKET# EL03-138, 000, Aquila Merchant Services, Inc. (f/k/a Aquila, Inc.)

OTHER#S EL03-181, 000, Aquila Merchant Services, Inc. (f/k/a Aquila, Inc.)

E-36.

OMITTED

E-37.

OMITTED

E-38.

DOCKET# EL03-170, 000, Reliant Resources, Inc., Reliant Energy Power Generation, Inc., and Reliant Energy Services, Inc.

E-39.

OMITTED

E-40.

DOCKET# EL03-160, 000, Morgan Stanley Capital Group

OTHER#S EL03-195, 000, Morgan Stanley Capital Group

E-41.

DOCKET# EL03-191, 000, Las Vegas Cogeneration L.P.

OTHER#S EL03-194, 000, Montana Power Company

EL03-198, 000, PECO Energy Company

EL03-203, 000, Valley Electric Association, Inc.

E-42.

DOCKET# EL03-156, 000, Idaho Power Company

E-43.

DOCKET# EL03-163, 000, PacifiCorp

E-44.

DOCKET# EL03-165, 000, Portland General Electric Company

E-45.

DOCKET# EL03-140, 000, Automated Power Exchange, Inc.

E-46.

DOCKET# PA02-2, 000, Fact-Finding Investigation of Potential Manipulation of Electric and Natural Gas Prices

E-47.

DOCKET# ER02-136, 004, Allegheny Power

E-48.

DOCKET# ER03-409, 001, Pacific Gas and Electric Company

OTHER#S ER03-666, 001, Pacific Gas and Electric Company

E-49.

DOCKET# EL00-66, 000, Louisiana Public Service Commission and the Council of the City of New Orleans v. Entergy Corporation

OTHER#S EL95-33, 002, Louisiana Public Service Commission v. Entergy Services, Inc.

ER00-2854, 000, Entergy Services, Inc.

E-50.

DOCKET# ER04-14, 002, Detroit Edison Company

Miscellaneous Agenda

M-1.

DOCKET# RM99-5, 000, Regulations Under the Outer Continental Shelf Lands Act Governing the Movement of Natural Gas on Facilities on the Outer Continental Shelf

Markets, Tariffs and Rates—Gas

G-1.

OMITTED

G-2.

OMITTED

G-3.

DOCKET# RP02-340, 003, ANR Pipeline Company

G-4.

DOCKET# RP96-200, 118, CenterPoint Energy Gas Transmission Company

OTHER#S RP96-200, 113, CenterPoint Energy Gas Transmission Company

RP96-200, 092, CenterPoint Energy Gas Transmission Company

RP96-200, 097, CenterPoint Energy Gas Transmission Company

RP96-200, 101, CenterPoint Energy Gas Transmission Company

RP96-200, 102, CenterPoint Energy Gas Transmission Company

RP96-200, 103, CenterPoint Energy Gas Transmission Company

RP96-200, 104, CenterPoint Energy Gas Transmission Company

RP96-200, 105, CenterPoint Energy Gas Transmission Company

RP96-200, 106, CenterPoint Energy Gas Transmission Company

RP96-200, 107, CenterPoint Energy Gas Transmission Company

RP96-200, 108, CenterPoint Energy Gas Transmission Company

RP96-200, 110, CenterPoint Energy Gas Transmission Company

RP96-200, 111, CenterPoint Energy Gas Transmission Company

G-5.

OMITTED

G-6.

OMITTED

G-7.

DOCKET# RP04-24, 002, Algonquin Gas Transmission Company

OTHER#S RP04-24, 001, Algonquin Gas Transmission Company

G-8.

DOCKET# RP03-544, 003 Texas Gas Transmission, LLC

G-9.

DOCKET# RP02-515, 002, Texas Gas Transmission Corporation

G-10.

OMITTED

G-11.

DOCKET# RP00-336, 016, El Paso Natural Gas Company

OTHER#S RP00-139, 006, KN Marketing, L.P. v. El Paso Natural Gas Company

RP00-336, 015, El Paso Natural Gas Company

RP01-484, 004, Aera Energy LLC, Amoco Production Company, BP Energy Company, Burlington Resources Oil & Gas Company LP, Conoco Inc., Coral Energy Resources LP, ONEOK Energy Marketing & Trading Company, L.P.,Pacific Gas and Electric Company, Panda Gila River L.P., the Public Utilities Commission of the State of California, Southern California Edison Company, Southern California Gas Company and Texaco Natural Gas Inc.

RP01-486, 004, Texas, New Mexico and Arizona Shippers v. El Paso Natural Gas Company

G-12.

DOCKET# RP03-545, 003, Dominion Cove Point LNG, LP

OTHER#S RP03-545, 002, Dominion Cove Point LNG, LP

G-13.

DOCKET# RP04-64, 001, Indicated Shippers v. Trunkline Gas Company, LLC

G-14.

DOCKET# RP04-130, 000, Fidelity Exploration & Production Company v. Southern Star Central Gas Pipeline, Inc.

G-15.

DOCKET# OR96-2, 000, ARCO Products Co. a Division of Atlantic Richfield Company, Texaco Refining and Marketing Inc., and Mobil Oil Corporation v. SFPP

OTHER#S OR92-2, 002, Ultramar Diamond Shamrock Corporation and Ultramar, Inc. v. SFPP

OR96-2, 002, SFPP, L.P.

OR96-10, 000, ARCO Products Co. a Division of Atlantic Richfield Company, Texaco Refining and Marketing Inc., and Mobil Oil Corporation v. SFPP

OR96-10, 002, SFPP, L.P.

OR96-15, 000, Ultramar Diamond Shamrock Corporation and Ultramar, Inc. v. SFPP

OR96-17, 000, Ultramar Diamond Shamrock Corporation and Ultramar, Inc. v. SFPP

OR96-17, 002, SFPP, L.P.

OR97-2, 000, Ultramar Diamond Shamrock Corporation and Ultramar, Inc. v. SFPP

IS98-1, 000, SFPP, L.P.

OR98-1, 000, ARCO Products Co. a Division of Atlantic Richfield Company, Texaco Refining and Marketing Inc., and Mobil Oil Corporation v. SFPP

OR98-2, 000, Ultramar Diamond Shamrock Corporation and Ultramar, Inc. v. SFPP

OR98-13, 000, Tosco Corporation v. SFPP

OR00-4, 000, ARCO Products Co. a Division of Atlantic Richfield Company, Texaco Refining and Marketing Inc., and Mobil Oil Corporation v. SFPP

OR00-7, 000, Navajo Refining Corporation v. SFPP

OR00-9, 000, Ultramar Diamond Shamrock Corporation and Ultramar, Inc. v. SFPP

OR00-10, 000, Refinery Holding Company v. SFPP

OR98-1, 000, Tosco Corporation v. SFPP

OR00-9,000, Tosco Corporation v. SFPP

G-16.

DOCKET# RP04-35, 001, Williston Basin Interstate Pipeline Company

Energy Projects—Hydro

H-1.

DOCKET# P-2493, 006, Puget Sound Energy, Inc.

H-2.

DOCKET# P-344, 015, Southern California Edison Company

H-3.

OMITTED

H-4.

OMITTED

H-5.

OMITTED

H-6.

OMITTED

H-7.

DOCKET# P-2000, 046, Power Authority of the State of New York

OTHER#S EL03-224, 001, Massachusetts Municipal Wholesale Electric Company v. Power Authority of the State of New York

Energy Projects—Certificates

C-1.

DOCKET# CP02-396, 007, Greenbrier Pipeline Company, LLC

CP02-397, 007, Greenbrier Pipeline Company, LLC

CP02-398, 007, Greenbrier Pipeline Company, LLC

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-4675 Filed 2-27-04; 10:27 am]

BILLING CODE 6717-01-P